DEPARTMENT OF HEALTH AND HUMAN SERVICES

Call for Collaborating Partners for the OWH National Lupus Awareness Campaign

AGENCY: Department of Health and Human Services, Office of the Secretary, Office of Public Health and Science, Office on Women's Health.

ACTION: Notice.

SUMMARY: The U.S. Department of Health and Human Services (HHS), Office of Public Health and Science (OPHS), Office on Women's Health (OWH) announces the development of a National Lupus Awareness campaign with the Advertising Council and invites public and private sector lupus and women's health related organizations to participate as collaborating partners to provide advice on the development and dissemination of the campaign materials.

DATES: Representatives of lupus and women's health organizations should submit expressions of interest by May 18, 2008.

ADDRESSES: Expressions of interest, comments, and questions may be submitted by electronic mail to Frances.Ashe-Goins@hhs.gov; or by regular mail to Frances E. Ashe-Goins, RN, MPH, Deputy Director, Office on Women's Health, Department of Health and Human Services, 200 Independence Avenue, SW., Room 728E, Washington, DC 20201, or via fax to (202) 401-4005.

FOR FURTHER INFORMATION CONTACT: Frances E. Ashe-Goins RN, MPH, Office on Women's Health, Office of Public Health and Science, Department of Health and Human Services, 200 Independence Avenue, SW., Room 728E, Washington, DC 20201, (202) 690-6373 (telephone), (202) 401-4005 (fax).

SUPPLEMENTARY INFORMATION: The OWH was established in 1991 to improve the health of American women by advancing and coordinating a comprehensive women's health agenda throughout HHS. This program has two goals: Development and implementation of model programs on women's health; and leading education, collaboration and coordination on women's health. The program fulfills its mission through competitive contracts and grants to an array of community, academic and other organizations at the national and community levels. National educational campaigns provide information about the important steps women can take to improve and maintain their health.

OWH has worked on community based lupus awareness projects over the years and those activities, though successful, have not met the overwhelming critical national need for lupus education.

Lupus is a chronic (life-long) autoimmune disease that for unknown reasons causes the immune system to mistakenly attack the body's own healthy cells and tissue as though they were foreign invaders. The resulting inflammation causes symptoms of disease. Without intervention, the inflammation leads to tissue damage, organ failure, disability, and in many cases, premature death.

Public recognition of lupus is low. A recent survey of 1,000 U.S. adults (18+) conducted for the Lupus Foundation of America (LFA) revealed that 39 percent knew nothing about lupus, and 22 percent had never heard of the disease. When probed, only 20 percent could reflect even basic information about the disease. An earlier survey showed that only 4 out of 10 young adults (18-24) claimed to be familiar with lupus. Lack of awareness of lupus symptoms is the underlying reason for late diagnosis and increased morbidity.

A report by the Centers for Disease Control and Prevention in 2002 revealed that over a 10-year period, deaths attributed to lupus increased 60 percent overall; among older African-American women, the increase was nearly 70 percent. This report suggests that increased awareness of lupus and proactive diagnosis of the disease will reduce the number of deaths due to lupus. It is estimated that ⅓ of deaths attributed to lupus occur among women younger than 45 years of age.

OWH has contracted with the Advertising Council to plan, develop, implement, and evaluate a national lupus marketing campaign to increase the awareness of symptoms of lupus, its health effects and provide information to individuals who may be at risk for lupus to help them decide whether to seek medical evaluation. The National Lupus Awareness Campaign is intended to generate public attention for lupus and raise recognition of the disease as a significant national public health problem that disproportionately affects young women of color.

In order to develop and implement the National Lupus Awareness Campaign, OWH is interested in establishing partnerships with private and public lupus and women's health related organizations. As partners with HHS, these health organizations can bring their ideas and expertise, administrative capabilities, and resources, which are consistent with the goals of the National Lupus Awareness Campaign.

Given the National Lupus Awareness Campaign's objectives, entities which have similar goals and consistent interests, appropriate expertise and resources, and which would like to pursue lupus awareness activities in collaboration with OWH are encouraged to reply to this notice. Working together, these partnerships will provide innovative opportunities to promote an increased national awareness of lupus, with the end goal of earlier lupus detection and diagnosis and decreased morbidity.

Dated: April 18, 2008.
Wanda K. Jones,
Deputy Assistant Secretary for Health (Women's Health).

[FR Doc. E8-9110 Filed 4-24-08; 8:45 am]

BILLING CODE 4150-33-P